DEPARTMENT OF AGRICULTURE

Forest Service

Wasatch Powderbird Guides Outfitter and Guide Special Use Permit, Wasatch-Cache National Forest, Salt Lake Ranger District, Salt Lake County, UT and Uinta National Forest, Pleasant Grove and Spanish Fork Ranger Districts, Utah County, UT

AGENCY: Forest Service, USDA.

ACTION: Notice of intent to prepare an environmental impact statement (EIS).

SUMMARY: The Salt Lake Ranger District, of the Wasatch-Cache National Forest, will prepare an EIS on Wasatch Powderbird Guides request for a 5-year outfitter and guide special use permit for guided helicopter skiing on National Forest System lands.

DATES: Comments concerning the scope of the analysis should be received in writing by December 13, 2002.

ADDRESSES: Send written comments to Loren Kroenke, District Ranger, 6944 South 3000 East, Salt Lake City, Utah 84121.

FOR FURTHER INFORMATION CONTACT: Steve Scheid, District Environmental Coordinator, (801) 733-2689 or at sscheid@fs.fed.us.

SUPPLEMENTARY INFORMATION: Wasatch Powderbird Guides, a current Special Use Permit permittee, is proposing to operate a heli-skiing operation for another five years along the Wasatch Front of the Wasatch-Cache and Uinta National Forests. This proposal includes elements on both private and public lands. Elements include the landing of helicopters to drop off and pick up heli-skiers that are skiing across both private and public lands. A complete description is available from the Salt Lake Ranger District.

Preliminary issues were identified from the 1999 permit renewal EIS and include potential effects on public safety, effects on designated Wilderness areas, effects on wildlife, including golden eagles and threatened, endangered and forest sensitive species, economic effects of Wasatch Powderbird Guides and the local economy, and effects on other winter recreationalists, including noise and competition for untracked powder skiing.

Two preliminary alternatives have been identified. The proposed action alternative is Wasatch Powderbird Guides proposal and includes replacing the existing Sunday/Monday Tri-Canyon closure with 15-day annual average cap in the area and other minor modifications designed to increase operational flexibility and minimize user conflicts. The No Action Alternative would allow continued use as authorized under the 1999 Record of Decision. Other potential alternatives will address issues raised during the public scoping process. Detailed descriptions of the Proposed and No Action Alternatives are available on the Wasatch-Cache National Forest Web site at www.fs.fed.us/wcnf.

The public is invited to submit comments or suggestions to the address above. The responsible officials are Tom Tidwell and Pete Karp, Forest Supervisors of the Wasatch-Cache and Uinta National Forests, respectively. A Draft EIS is expected to be filed in May of 2003 and the Final EIS filed in September of 2003.

The comment period on the draft EIS will be 45 days from the date the Environmental Protection Agency's notice of availability appears in the Federal Register. It is very important that those interested in this proposed action participate during that time. To be most helpful, comments on the draft EIS should be as specific as possible and may address the adequacy of the statement or the merits of the alternatives discussed (see The Council on Environmental Quality Regulations for implementing the procedural provisions of the National Environmental Policy Act at 40 CFR 1503.3).

In addition, Federal court decisions have established that the reviewers of the draft EIS must structure their participation in the environmental review of the proposal so that it is meaningful and alerts an agency to the reviewer's position and contentions. Vermont Yankee Nuclear Power Corp v. NRDC, 435 U.S. 519, 553 (1978). Environmental objections that could have been raised at the draft stage may be waived if not raised until after completion of the final EIS. City of Angoon v. Hodel, (9th Circuit, 1986), and Wisconsin Heritages, Inc. v. Harris, 490 F. Supp. 1334, 1338 (E.D. Wis. 1980). The reason for this is to ensure that substantive comments and objections are made available to the Forest Service at a time when it can meaningfully consider them and respond to them in the final EIS.

Dated: October 29, 2002.
Carol Majeske, for Loren M. Kroenke,
Salt Lake District Ranger.

[FR Doc. 02-27981 Filed 11-1-02; 8:45 am]

BILLING CODE 3410-11-M